DEPARTMENT OF DEFENSE

Office of the Secretary

Invitation to Unmanned Rotorcraft Industry for Review and Comment Period on Edition 1 of Standardization Agreement (STANAG) 4702 Rotary Wing Unmanned Aerial Systems Airworthiness Requirements (USAR-RW)

AGENCY: United States Office of the Secretary of Defense through the United States Department of Defense for North Atlantic Treaty Organization (NATO) STANAG 4702 Custodial Support Team (CST).

ACTION: Collection of technical comments from Industry on STANAG 4702.

SUMMARY: The NATO STANAG 4702 CST is seeking a point of contact (POC) from all US Rotorcraft Industries who are interested in participating in a formal review of STANAG 4702 Edition 1 and who will provide, in writing, comments and/or concerns for review by the STANAG 4702 CST. NATO STANAG 4702 USAR-RW contains a set of technical airworthiness requirements intended for the airworthiness certification of rotary-wing military UAV Systems with a maximum take-off weight between 150 and 3175 kg that intend to regularly operate in non-segregated airspace. These requirements represent the minimum acceptable airworthiness requirements for design and construction of military rotorcraft UAVs intended to operate in non-segregated airspace. The USAR-RW is intended for application by Certifying Authorities within each country's relevant national regulatory framework. Interested participants POC information will be forwarded to the Chairman of STANAG 4702 by the US Delegation. A copy of the document will be provided to interested participants once the POC information is received by the US Delegation. The intent of this effort is to collect comments from all NATO member nation's Rotorcraft Industries, disposition the comments and at a future date hold an Industry Day to discuss comments provided in an open forum. Keywords: Helicopter, RPV, RPAS, Rotorcraft, Rotor Wing, Rotorwing, UAS, UAV, Remotely Piloted Vehicle, Vertical Take Off and Landing, VTOL, Unmanned Aircraft, Unmanned Aircraft Vehicle, Unmanned Aircraft Systems.

DATES: POC information should be provided if possible by January 7, 2015 to Mr. George L Flynn at the email address in the FOR FURTHER INFORMATION CONTACT section.

FOR FURTHER INFORMATION CONTACT: Collection of Technical comments from US Industry on STANAG 4702 Coordinator: Mr. George L Flynn, Email: George.l.flynn.civ@mail.mil, Telephone: (256) 313-6456.

Dated: December 12, 2014.
Aaron Siegel,
Alternate OSD Federal Register Liaison Officer, Department of Defense.

[FR Doc. 2014-29558 Filed 12-16-14; 8:45 am]

BILLING CODE 5001-06-P